NATIONAL CREDIT UNION ADMINISTRATION

Notice of Sunshine Act Meeting

STATUS: Open.

TIME AND DATE: 10:00 a.m., Thursday, December 12, 2013.

PLACE: Board Room, 7th Floor, Room 7047, 1775 Duke Street (All visitors must use Diagonal Road Entrance), Alexandria, VA 22314-3428.

MATTERS TO BE CONSIDERED:

1. Board Briefing, Supplemental Interagency Rule, Appraisals for Higher-Priced Mortgage Loans.

2. 2014 Temporary Corporate Credit Union Stabilization Fund Oversight Budget.

3. NCUA's Rules and Regulations, Technical Amendments, Corporate Credit Union Rating System.

4. NCUA's Rules and Regulations, Requirements for Federal Credit Union Examination Sites.

5. NCUA's Rules and Regulations, Charitable Donation Accounts.

RECESS: 11:00 a.m.

STATUS: Closed.

TIME AND DATE: 11:15 a.m., Thursday, December 12, 2013.

PLACE: Board Room, 7th Floor, Room 7047, 1775 Duke Street, Alexandria, VA 22314-3428.

MATTERS TO BE CONSIDERED:

1. Consideration of Supervisory Activities. Closed pursuant to Exemptions (8), (9)(i)(B) and (9)(ii).

2. Appeal under Part 701.14(e) and Part 747, Subpart J of the NCUA's Rules and Regulations. Closed pursuant to Exemptions (6) and (8).

3. Personnel. Closed pursuant to Exemption (2).

FOR FURTHER INFORMATION CONTACT: Gerard Poliquin, Secretary of the Board, Telephone: 703-518-6304.

Gerard Poliquin,
Secretary of the Board.

[FR Doc. 2013-29421 Filed 12-5-13; 4:15 pm]

BILLING CODE 7535-01-P